DEPARTMENT OF TRANSPORTATION

Federal Aviation Administration

14 CFR Part 39

[Docket No. FAA-2021-0576; Project Identifier 2019-CE-008-AD; Amendment 39-21758; AD 2021-20-20]

RIN 2120-AA64

Airworthiness Directives; Pacific Aerospace Limited Airplanes

AGENCY: Federal Aviation Administration (FAA), DOT.

ACTION: Final rule.

SUMMARY: The FAA is adopting a new airworthiness directive (AD) for certain Pacific Aerospace Limited Model 750XL airplanes. This AD was prompted by mandatory continuing airworthiness information (MCAI) originated by an aviation authority of another country to identify and correct an unsafe condition on an aviation product. The MCAI identifies the unsafe condition as installation of the wing leading edge tank fuel pickup assembly in a pre-stressed condition, which could cause cracks in the wing spar web or the fuel pickup assembly pipe. This AD requires inspecting the angle of the support bracket on the wing leading edge tank fuel pickup assembly and taking any necessary corrective actions. The FAA is issuing this AD to address the unsafe condition on these products.

DATES: This AD is effective November 22, 2021.

The Director of the Federal Register approved the incorporation by reference of a certain publication listed in this AD as of November 22, 2021.

ADDRESSES: For service information identified in this final rule, contact the Civil Aviation Authority of New Zealand, Level 15, Asteron Centre, 55 Featherston Street, Wellington 6011; phone: +64 4 560 9400; fax: +64 4 569 2024; email: info@caa.govt.nz. You may view this service information at the FAA, Airworthiness Products Section, Operational Safety Branch, 901 Locust, Kansas City, MO 64106. For information on the availability of this material at the FAA, call (816) 329-4148. It is also available at https://www.regulations.gov by searching for and locating Docket No. FAA-2021-0576.

Examining the AD Docket

You may examine the AD docket at https://www.regulations.gov by searching for and locating Docket No. FAA-2021-0576; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Mike Kiesov, Aviation Safety Engineer, General Aviation & Rotorcraft Section, International Validation Branch, FAA, 901 Locust, Room 301, Kansas City, MO 64106; phone: (816) 329-4144; fax: (816) 329-4090; email: mike.kiesov@faa.gov.

SUPPLEMENTARY INFORMATION:

Background

The FAA issued a notice of proposed rulemaking (NPRM) to amend 14 CFR part 39 by adding an AD that would apply to certain serial-numbered Pacific Aerospace Limited Model 750XL airplanes. The NPRM published in the Federal Register on July 22, 2021 (86 FR 38615). The NPRM was prompted by MCAI originated by the Civil Aviation Authority (CAA), which is the aviation authority for New Zealand. The CAA of New Zealand has issued AD No. DCA/750XL/36, effective date February 7, 2019 (referred to after this as “the MCAI”), to correct an unsafe condition for certain Pacific Aerospace Limited Model 750XL airplanes. The MCAI states:

DCA/750XL/36 is prompted by a review of the installation of the wing leading edge fuel pickup assemblies. It was found that the fuel pickup assemblies could have been installed in a pre-stressed condition, which could result in cracks in the wing spar web, or cracks in the fuel pickup pipe. The [CAA] AD is issued to introduce the instructions in Pacific Aerospace Mandatory Service Bulletin (MSB) PACSB/XL/109 issue 1, dated 16 January 2019.

The MCAI requires inspecting the installation of the fuel pickup assembly and the wing spar web on both wings and, if any defects are found, taking all necessary corrective actions.

You may examine the MCAI in the AD docket at https://www.regulations.gov by searching for and locating Docket No. FAA-2021-0576.

Discussion of Final Airworthiness Directive

Comments

The FAA received no comments on the NPRM or on the determination of the costs.

Conclusion

This product has been approved by the aviation authority of another country and is approved for operation in the United States. Pursuant to the FAA's bilateral agreement with this State of Design Authority, it has notified the FAA of the unsafe condition described in the MCAI and service information referenced above. The FAA reviewed the relevant data and determined that air safety requires adopting this AD as proposed. Accordingly, the FAA is issuing this AD to address the unsafe condition on these products. This AD is adopted as proposed in the NPRM.

Related Service Information Under 1 CFR Part 51

The FAA reviewed Pacific Aerospace Mandatory Service Bulletin PACSB/XL/109, Issue 1, dated January 16, 2019. The service information contains procedures for inspecting the wing leading edge tank fuel pickup assembly to determine if the assembly is under stress and for accomplishing additional inspections and corrective actions if necessary. This service information is reasonably available because the interested parties have access to it through their normal course of business or by the means identified in ADDRESSES.

Costs of Compliance

The FAA estimates that this AD affects 23 airplanes of U.S. registry. The FAA also estimates it will take about 1 work-hour per airplane to comply with the inspection required by this AD. The average labor rate is $85 per work-hour.

Based on these figures, the FAA estimates the inspection cost of this AD on U.S. operators to be $1,955 or $85 per airplane.

In addition, the FAA estimates that any necessary follow-on actions will take 4 work-hours and require parts costing $500, for a cost of $840 per airplane. The FAA has no way of determining the number of airplanes that may need these actions.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-20-20 Pacific Aerospace Limited: Amendment 39-21758; Docket No. FAA-2021-0576; Project Identifier 2019-CE-008-AD.

(a) Effective Date

This airworthiness directive (AD) is effective November 22, 2021.

(b) Affected ADs

None.

(c) Applicability

This AD applies to Pacific Aerospace Limited Model 750XL airplanes, serial numbers 177, 186 through 213, 220, 8001, and 8002, certificated in any category.

(d) Subject

Joint Aircraft System Component (JASC) Code 3600, Pneumatic System.

(e) Unsafe Condition

This AD was prompted by mandatory continuing airworthiness information (MCAI) originated by an aviation authority of another country to identify and correct an unsafe condition on an aviation product. The MCAI describes the unsafe condition as failure of the installation of the wing leading edge tank fuel pickup assembly in a pre-stressed condition, which could cause cracks in the wing spar web or the fuel pickup assembly pipe. The FAA is issuing this AD to prevent cracks in the wing spar web and the fuel pickup pipe. This condition could result in reduced structural integrity of the wing spar or cause a fuel leak, which could result in an engine fire.

(f) Compliance

Comply with this AD within the compliance times specified, unless already done.

(g) Required Actions

Within 165 hours time-in-service after the effective date of this AD, inspect the angle of the support bracket on the wing leading edge tank fuel pickup assembly and, before further flight, take any necessary additional actions and corrective actions by following the Accomplishment Instructions in Pacific Aerospace Mandatory Service Bulletin PACSB/XL/109, Issue 1, dated January 16, 2019.

(h) Alternative Methods of Compliance (AMOCs)

(1) The Manager, International Validation Branch, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD or email: 9-AVS-AIR-730-AMOC@faa.gov.

(2) Before using any approved AMOC, notify your appropriate principal inspector, or lacking a principal inspector, the manager of the local flight standards district office/certificate holding district office.

(i) Related Information

(1) For more information about this AD, contact Mike Kiesov, Aviation Safety Engineer, General Aviation & Rotorcraft Section, International Validation Branch, FAA, 901 Locust, Room 301, Kansas City, MO 64106; phone: (816) 329-4144; fax: (816) 329-4090; email: mike.kiesov@faa.gov.

(2) Refer to Civil Aviation Authority (CAA) of New Zealand AD No. DCA/750XL/36, dated February 7, 2019, for more information. You may examine the CAA AD in the AD docket at https://www.regulations.gov by searching for and locating Docket No. FAA-2021-0576.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Pacific Aerospace Mandatory Service Bulletin PACSB/XL/109, Issue 1, dated January 16, 2019.

(ii) Reserved.

(3) For service information identified in this AD, contact the Civil Aviation Authority of New Zealand, Level 15, Asteron Centre, 55 Featherston Street, Wellington 6011; phone: +64 4 560 9400; fax: +64 4 569 2024; email: info@caa.govt.nz.

(4) You may view this service information at FAA, Airworthiness Products Section, Operational Safety Branch, 901 Locust, Kansas City, MO 64106. For information on the availability of this material at the FAA, call (816) 329-4148.

(5) You may view this service information that is incorporated by reference at the National Archives and Records Administration (NARA). For information on the availability of this material at NARA, email: fr.inspection@nara.gov, or go to: https://www.archives.gov/federal-register/cfr/ibr-locations.html.

Issued on September 23, 2021.
Lance T. Gant,
Director, Compliance & Airworthiness Division, Aircraft Certification Service.

[FR Doc. 2021-22460 Filed 10-15-21; 8:45 am]

BILLING CODE 4910-13-P